DEPARTMENT OF TRANSPORTATION

National Highway Traffic Safety Administration

[Docket No. NHTSA 2003-15209; Notice 2]

Public Meeting on Electronic Reporting Procedures Under the Early Warning Reporting Regulations

AGENCY: National Highway Traffic Safety Administration (NHTSA), DOT.

ACTION: Notice of public meeting.

SUMMARY: Prior to the first electronic submission of early warning reporting (EWR) data, NHTSA will hold a final series of public meetings with interested members of the public to discuss the manner in which EWR information is to be submitted by motor vehicle and motor vehicle equipment manufacturers to NHTSA's Office of Defects Investigation (ODI) pursuant to 49 CFR part 579, subpart C. NHTSA will hold two separate public meetings for the following types of manufacturers:

(1) Manufacturers of tires, child restraint systems, and equipment

(2) Manufacturers of motor vehicles, including light, medium-heavy vehicles and buses, trailers, and motorcycles.

NHTSA will discuss the procedures by which EWR information must be submitted, security measures involving the EWR information, NHTSA's acknowledgment of the EWR information, and other technical aspects associated with manufacturers' electronic submissions. NHTSA will also answer questions on these issues raised at the meetings.

DATES: NHTSA will conduct these meetings on the following dates and times:

August 27, 2003 at 9:30 a.m. to 12:30 p.m. for manufacturers of tires, child restraint systems and equipment.

August 28, 2003 at 9:30 a.m. to 12:30 p.m. for manufacturers of motor vehicles.

All meetings will be held in Room 2230 of the United States Department of Transportation (Nassif Building), 400 Seventh Street, SW. Washington, DC 20590.

FOR FURTHER INFORMATION CONTACT: Lorena Villa, Office of Defects Investigation, National Highway Traffic Safety Administration, 400 Seventh Street, SW., Room 5319, Washington, DC 20590; (202) 366-0699 or at bvilla@nhtsa.dot.gov.

SUPPLEMENTARY INFORMATION: NHTSA recommends that all visitors arrive at least 45 minutes early in order to sign in with security. Visitors to the building should enter through the Southwest Lobby to sign in with security and to be escorted to the meeting room.

NHTSA will provide auxiliary aids to participants as necessary. Any person desiring such auxiliary aids (sign language interpreter, telecommunications devices for deaf persons (TDDs), readers, taped tests, brailed materials, or large print materials, and magnifying devices) should contact Julia Goldson at (202) 366-9944, by Wednesday, August 13, 2003.

Issued on: July 30, 2003.
Kenneth N. Weinstein,
Associate Administrator for Enforcement.

[FR Doc. 03-19902 Filed 8-4-03; 8:45 am]

BILLING CODE 4910-59-P